DEPARTMENT OF TRANSPORTATION

Research and Special Programs Administration

Pipeline Safety: Semi-Annual Reporting of Performance Measures for Gas Transmission Pipeline Integrity Management

AGENCY: Office of Pipeline Safety (OPS), Research and Special Programs Administration (RSPA), DOT.

ACTION: Notice; issuance of advisory bulletin.

SUMMARY: This document provides guidance to operators of gas transmission pipelines regarding semi-annual reporting of performance measures for integrity management. Operators of gas transmission pipelines subject to Subpart O, “Pipeline Integrity Management,” must submit four overall measures of their integrity management performance on a semi-annual basis. The first report was due August 31, 2004, and was the subject of RSPA/OPS Advisory Bulletin ADB-04-02 (69 FR 43881) which published on July 22, 2004. This document provides additional guidance for operators regarding on-line reporting that will be available for the report due in February 2005 and subsequent reports.

FOR FURTHER INFORMATION CONTACT: Zach Barrett by phone at (405) 954-5559 or by e-mail at zbarrett@tsi.jccbi.gov, regarding the subject matter of this Advisory Bulletin. General information about the RSPA/OPS programs may be obtained by accessing RSPA's home page at http://RSPA.dot.gov.

SUPPLEMENTARY INFORMATION:

Background

On December 15, 2003 (68 FR 69778) RSPA/OPS published a new Subpart O to the regulations governing safety of gas pipelines in 49 CFR part 192. Subpart O establishes requirements governing integrity management programs for gas transmission pipelines. Included among these provisions (49 CFR 192.945) are requirements for each transmission pipeline operator to maintain quantitative measures of its integrity management performance, including at least four overall performance measures specified in ASME/ANSI B31.8S, “Managing System Integrity of Gas Pipelines”, Section 9.4. The same regulation requires that each operator submit the four overall performance measures to RSPA/OPS semi-annually.

The acceptable means for submitting reports required by Subpart O are in 49 CFR 192.951. That regulation specifies an address for submission by mail, includes a facsimile number, and provides that submissions may be made through the online reporting system provided by RSPA/OPS for electronic reporting. The electronic system is available at the RSPA/OPS Home Page at http://ops.dot.gov. The electronic submission form for integrity management performance measures is available from the “Gas IMP Reporting” link on that page.

Advisory Bulletin ADB-04-02 informed natural gas transmission pipeline operators that the initial performance measures submission required by August 31, 2004, could be abbreviated, in recognition of the developmental state of operator integrity management programs. This advisory bulletin provides additional information concerning on-line reporting of performance measures for the report due in February 2005.

Advisory Bulletin (ADB-05-01)

To: Operators of gas transmission pipelines.

Subject: Semi-Annual Reporting of Integrity Management Performance Measures in 49 CFR 192.945.

Purpose: To provide guidance to operators for making required semi-annual submission of performance measures for integrity management.

Advisory: Operators are required by 49 CFR 192.945 to submit integrity management performance measures semi-annually. RSPA/OPS developed an electronic form to facilitate submission of the required measures. This form is available on the RSPA/OPS Home Page (http://ops.dot.gov) for “Gas IMP Reporting”. RSPA/OPS strongly encourage operators to submit data using the electronic form, since this minimizes future transcription and handling, and lessens the chance for error. Operators may also submit the information by mail or facsimile, addressed to RSPA/OPS, 400 7th Street, SW., Room 2103, Washington, DC 20590. The fax number is (202) 366-4566. Please clearly notate your correspondence with “Gas IMP Reporting”.

The four overall performance measures that gas transmission pipeline operators are required to submit are the:

1. Number of pipeline miles inspected versus program requirements;

2. Number of immediate repairs completed as a result of the integrity management inspection program;

3. Number of scheduled repairs completed as a result of the integrity management program; and

4. Number of leaks, failures, and incidents (classified by cause).

With respect to the first performance measure, the phrase “versus program requirements” refers to the number of miles of the operator's pipeline system that require assessment in accordance with Subpart O, (i.e., the number of miles in high consequence areas.) Operators were not required to have developed their integrity management programs and baseline inspection plans until December 17, 2004, and thus may not have known the total number of miles that would require assessment at the time the first report was due (August 31, 2004). Similarly, operators may not have known, at that time, what repairs were reportable, since they may not have known which were made in high consequence areas. For these reasons, Advisory Bulletin ADB-04-02 advised operators that the quantitative performance measures would not be required for the first (August 31, 2004) report. That report, instead, allowed operators to report that they had begun assessment activities by June 17, 2004, in conformance with the Pipeline Safety Improvement Act of 2002 (codified at 49 U.S.C. 60109(c)).

The December 17, 2004, deadline for identifying high consequence areas has now passed. Operators should be aware of how many miles of their pipeline system are in high consequence areas and where those areas are located. Operators should have all of the information needed for the overall quantitative performance measures required by the rule. Operators must include the quantitative information in their February 2005 reports and in subsequent semi-annual submissions, unless the requirement is changed by future rulemaking. The February 2005 report should include data covering all of calendar year 2004, (i.e., it should include the quantitative data that would have been reported in August 2004 but for which reporting was deferred by the earlier advisory bulletin.) Failure to submit performance measures in accordance with the rule could result in enforcement action.

The electronic report form provides a template with data fields that operators can complete to submit the required quantitative performance measures for 2004 (report due February 28, 2005). Operators who submit by mail or facsimile should similarly include all of the quantitative information required by the rule and the referenced standard.

The rule does not now require that performance measures be submitted separately for each state in which a pipeline operator operates. State pipeline safety authorities will have significant involvement in oversight of the implementation of integrity management requirements for gas transmission pipelines and performance measure information for their state will be useful for prioritizing and managing this work. RSPA/OPS is considering a change to the rule that would require operators to report separately for each state in which they have transmission pipeline. In the meantime, RSPA/OPS encourages operators with transmission pipeline in more than one state to submit their integrity management performance measure information separately for each state.

Issued in Washington, DC, on January 12, 2005.
Stacey L. Gerard,
Associate Administrator for Pipeline Safety.

[FR Doc. 05-1061 Filed 1-14-05; 9:11 am]

BILLING CODE 4910-60-P